DEPARTMENT OF HOMELAND SECURITY

U.S. Immigration and Customs Enforcement

[OMB Control Number 1653-NEW]

Agency Information Collection Activities: 287(g) Needs Assessment; New Collection

AGENCY: U.S. Immigration and Customs Enforcement, Department of Homeland Security.

ACTION: 30-day notice.

The Department of Homeland Security (DHS), U.S. Immigration and Customs Enforcement (USICE) is submitting the following information collection request to the Office of Management and Budget (OMB) for review and clearance in accordance with the Paperwork Reduction Act of 1995. The information collection notice was previously published in the Federal Register on September 18, 2017, Vol. 82 FR 43566, allowing for a 60-day public comment period. USICE did not receive any comment relating to the 60-day notice. The purpose of this notice is to allow an additional 30 days for public comments.

Written comments and/or suggestions regarding the items contained in this notice, especially regarding the estimated public burden and associated response time, must be directed to the OMB Desk Officer for U.S. Immigration and Customs Enforcement, Department of Homeland Security and sent via electronic mail to dhsdeskofficer@omb.eop.gov. All submissions received must include the agency name and the OMB Control Number 1653-NEW.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New information collection.

(2) Title of the Form/Collection: 287(g) Needs Assessment.

(3) Agency form number, if any, and the applicable component of the Department of Homeland Security sponsoring the collection: U.S. Immigration and Customs Enforcement.

(4) Affected public who will be asked or required to respond, as well as a brief abstract: Primary: State or Local governments. This questionnaire is used for the purposes of allowing ICE to evaluate a state or local law enforcement agency that has expressed interest in partnering with ICE under Section 287(g) of the Immigration and Nationality Act so that its officers may be delegated the authority to perform the functions of an immigration officer under a signed memorandum of agreement. The prospective law enforcement agency provides this information to ICE as part of ICE's process to evaluate the agency's suitability to partner with ICE.

(5) An estimate of the total number of respondents and the amount of time estimated for an average respondent to respond: 50 responses at 60 minutes (1 hour) per response.

(6) An estimate of the total public burden (in hours) associated with the collection: 50 annual burden hours.

Dated: December 6, 2017.
Scott Elmore,
PRA Clearance Officer, Office of the Chief Information Officer, U.S. Immigration and Customs Enforcement, Department of Homeland Security.

[FR Doc. 2017-26673 Filed 12-11-17; 8:45 am]

BILLING CODE 9111-28-P